DEPARTMENT OF STATE

[Public Notice: 11448]

Clean Energy Resources Advisory Committee

AGENCY: Department of State.

ACTION: Notice of intent to establish an advisory committee.

The Secretary of State announces an intent to establish the Department of State Clean Energy Resources Advisory Committee (the Committee), in accordance with the Federal Advisory Committee Act.

Nature and Purpose: The Committee will provide input and advice on major issues and problems in regard to energy minerals, their supply chains, and end uses, including with respect to:

(a) The energy resources market and how it affects overall foreign policy;

(b) Development of trade policy and negotiations impacting the competitiveness of U.S. energy minerals and associated goods and services;

(c) Formulation of U.S. government policies and programs that directly impact the competitiveness of U.S. energy minerals and associated goods and services;

(d) Identification of priority export markets for and barriers to trade in U.S. energy minerals and associated goods and services, both in the short- and long-term;

(e) Assessing diplomatic policies and practices of foreign governments that impact U.S. energy minerals and associated goods and services;

(f) Design of U.S. government policies and programs that support the development of new markets for U.S. energy minerals and associated goods and services in countries with high potential but that currently lack effective policy and market mechanisms necessary to create demand for energy minerals and associated goods and services; and

(g) Responsible sourcing of energy minerals and preventing supply chain vulnerabilities and bottlenecks.

Other information: It is anticipated that the Commission will meet at least once per year and at such other times and places as are required to fulfill the objectives of the Commission. The Department of State affirms that the advisory committee is necessary and in the public interest.

FOR FURTHER INFORMATION, PLEASE CONTACT: Sara Ferchichi, ferchichism@state.gov, (202) 436-1904.

Sara Ferchichi,
Senior Energy Officer, Bureau of Energy Resources, Department of State.

[FR Doc. 2021-12838 Filed 6-16-21; 8:45 am]

BILLING CODE 4710-AE-P